DEPARTMENT OF TRANSPORTATION

Federal Aviation Administration

14 CFR Part 39

[Docket No. 2002-NM-172-AD]

RIN 2120-AA64

Airworthiness Directives; BAE Systems (Operations) Limited Model BAe 146 and Avro 146-RJ Airplanes

AGENCY: Federal Aviation Administration, DOT.

ACTION: Supplemental notice of proposed rulemaking; reopening of comment period.

SUMMARY: This document revises an earlier proposed airworthiness directive (AD), applicable to all BAE Systems (Operations) Limited Model BAe 146 and Avro 146-RJ airplanes, that would have required installation of a linear fluid-filled damper between each elevator surface and the airplane structure on both the left and right sides of the airplane, along with related structural and system modifications. This new action revises the proposed rule by updating and adding service information, and changing the compliance time. The actions specified by this new proposed AD are intended to prevent pitch oscillation (vertical bouncing) of the fuselage due to excessive ice buildup on the elevator servo tab, and consequent reduced controllability of the airplane. This action is intended to address the identified unsafe condition.

DATES: Comments must be received by January 3, 2006.

ADDRESSES: Submit comments in triplicate to the Federal Aviation Administration (FAA), Transport Airplane Directorate, ANM-114, Attention: Rules Docket No. 2002-NM-172-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “2002-NM-172-AD” in the subject line and need not be submitted in triplicate. Comments sent via the Internet as attached electronic files must be formatted in Microsoft Word 97 or 2000 or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Todd Thompson, Aerospace Engineer; International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-172-AD.” The postcard will be date stamped and returned to the commenter.

Availability of NPRMs

Any person may obtain a copy of this NPRM by submitting a request to the FAA, Transport Airplane Directorate, ANM-114, Attention: Rules Docket No. 2002-NM-172-AD, 1601 Lind Avenue, SW., Renton, Washington 98055-4056.

Discussion

A proposal to amend part 39 of the Federal Aviation Regulations (14 CFR part 39) to include an airworthiness directive (AD) that is applicable to all BAE Systems (Operations) Limited Model BAe 146 and Avro 146-RJ airplanes was published as a notice of proposed rulemaking (NPRM) in the Federal Register on June 2, 2004 (69 FR 31045). That NPRM would have required installation of a linear fluid-filled damper between each elevator surface and the airplane structure on both the left and right sides of the airplane, along with related structural and system modifications. That NPRM was prompted by a manufacturer's report that, due to excessive ice buildup on the elevator servo tab under certain unusual atmospheric conditions, pitch oscillation (vertical bouncing) of the fuselage can occur. That condition, if not corrected, could result in reduced controllability of the airplane.

Actions Since Issuance of Previous Proposal

Due consideration has been given to the comments received in response to the original NPRM.

Request To Include Additional Service Bulletin

One commenter requests that we revise the NPRM by adding BAE Systems (Operations) Limited Modification Service Bulletin SB.27-174-01692G, dated December 10, 2001. The commenter states that it recently initiated a program to accomplish the actions specified in the NPRM and states that this service bulletin was needed to properly complete the specified modifications. The commenter asserts that this service bulletin should also be included in the NPRM.

We agree with this request. Since the original NPRM was published, we have reviewed BAE Systems (Operations) Limited Modification Service Bulletin SB.27-169-01692A, Revision 1, dated July 11, 2002. Service Bulletin SB.27-169-01692A, Revision 1, refers to Service Bulletin SB.27-174-01692G, dated December 10, 2001, as a source of additional actions that must be accomplished prior to or concurrently with the actions of the other secondary service bulletins specified in Service Bulletin SB.27-169-01692A, Revision 1. The other secondary service bulletins have also been revised. We have reviewed those revisions and revised this supplemental NPRM to include the actions specified in Service Bulletin SB.27-174-01692G and to refer to all revised service bulletins as appropriate sources of service information to accomplish the AD. We have also added new paragraph (b) to this supplemental NPRM to give credit for accomplishing the proposed requirements before the effective date of this AD using earlier revisions of the service information; and have accordingly re-identified existing paragraph (b) and subsequent paragraphs in this supplemental NPRM.

Request To Extend Compliance Time

The same commenter requests that we extend the compliance time of the NPRM. The commenter states that it would be very difficult to accomplish the proposed modifications within the specified 18-month period unless airplane flight schedules are interrupted, which would reduce airplane availability and could have a negative impact on the flying public. The commenter asserts that the modifications are so interconnected that the work cannot be accomplished in sections or in multiple overnight maintenance visits. The commenter feels that, since the modifications would require more than 80 work hours to accomplish, a much more satisfactory compliance time of 30 months would allow accomplishing the modifications during the next scheduled heavy maintenance visit or C-check with no additional safety risk or adverse scheduling consequence to the flying public.

We partially agree with this request. When we re-examined the original issue of BAE Systems (Operations) Limited Modification Service Bulletin SB.27-169-01692A, dated December 10, 2001, we determined that the compliance time shown in the original NPRM did not accurately reflect the service bulletin. Therefore, we are revising paragraph (a) of this supplemental NPRM to specify a compliance time of 24 months, which reflects the compliance time of the original issue of Service Bulletin SB.27-169-01692A. The proposed compliance time should provide sufficient time for operators to accomplish the requirements of the AD while still maintaining an adequate level of safety causing little inconvenience to the flying public. However, as provided by paragraph (d) of the AD, we may consider requests for approval of an alternative method of compliance (AMOC) if data are submitted to substantiate that any requested change in the compliance time would provide an acceptable level of safety.

Request To Correct Original Release Date of Service Bulletin

The same commenter requests that we correct the original release date shown for Service Bulletin SB.27-169-01692A. The commenter states that the date is incorrect, asserting that it should be December 10, 2001, not December 10, 2003.

We partially agree with this request. In the original NPRM, the initial release date of Service Bulletin SB.27-169-01692A appears in the Discussion section as December 10, 2001, which is correct, but appears in paragraph (a) as December 10, 2003, which is a typographical error. However, Service Bulletin SB.27-169-01692A has been revised. Therefore, we have revised paragraph (a) of this supplemental NPRM to refer to Service Bulletin SB.27-169-01692A, Revision 1, dated July 11, 2002.

Request To Permit Use of Future Revisions of Service Information

The same commenter and a second commenter request that the NPRM be revised to include a statement similar to “or later approved revisions” of the specified service information. The first commenter states that that the specified revisions of the service bulletins are outdated and, in many cases, are no longer available to operators and asserts that such a statement would allow operators to accomplish required actions using any revision of service information. The commenter suggests that including the proposed statement rather than updating the service information references in the proposed AD would provide substantiation to operators for credit for actions performed using earlier revisions of service information. The second commenter supports the first commenter's request and asserts that many others who are concerned with the use of service information also support this request. The commenters assert this would greatly relieve the paperwork burden for operators and the FAA.

We do not agree with this request. We cannot use “or later FAA-approved revisions” or any similar phrase in an AD when referring to the service document because doing so violates Office of the Federal Register (OFR) regulations for approval of materials “incorporated by reference” in rules. In general terms, we are required by these OFR regulations to either publish the service document contents as part of the actual AD language, or to submit the service document to the OFR for approval as “referenced” material, in which case we may only refer to such material in the text of an AD. The AD may refer to the service document only if the OFR approved it for “incorporation by reference.” In either case, the document must actually exist. To allow operators to use later revisions of the referenced document (issued after the revision cited in this AD), either we must revise the AD to reference specific later revisions, or operators must request approval to use later revisions as an AMOC with this AD as provided by paragraph (d) of this AD. We have not changed the supplemental NPRM in this regard.

Request To Specify Meteorological Conditions

One commenter requests that we revise the proposed AD to specify what types of meteorological or “unusual atmospheric” conditions could lead to the type of severe ice buildup described by the original NPRM. The commenter states that certain existing industry procedures allow flightcrews to avoid or exit atmospheric conditions that can cause severe ice accretion, and that apparently no evaluation was made of flightcrew ability to control an airplane having a severe ice buildup. The commenter asserts that the NPRM should contain procedures that allow the flightcrew to detect and exit atmospheric conditions that could cause severe ice buildup on the elevator servo tabs, and to be aware of changes that may occur to the handling of an airplane during a severe ice buildup. The commenter is concerned that the NPRM might be addressing only a symptom of a potentially hazardous handling characteristic of the airplane in icing conditions.

We do not agree with this request. The commenter is correct in stating that certain existing industry procedures allow flightcrews to avoid or exit atmospheric conditions that can cause severe ice accretion. However, the awareness and use of such procedures depends on flightcrew training, as does flightcrew ability to recognize atmospheric conditions that would make those procedures applicable. Therefore, any discussion of meteorological conditions or flightcrew procedures and ability to safely operate the airplane under such conditions exceeds the intent of this AD, which is to correct an unsafe condition. We have not changed the supplemental NPRM in this regard.

Clarification of Alternative Method of Compliance (AMOC) Paragraph

We have revised this action to clarify the appropriate procedure for notifying the principal inspector before using any approved AMOC on any airplane to which the AMOC applies.

Explanation of Change to Applicability

We have revised the applicability of the existing AD to identify model designations as published in the most recent type certificate data sheet for the affected models.

Conclusion

Since these changes expand the scope and increase the costs of the originally proposed rule, we have determined that it is necessary to reopen the comment period to provide additional opportunity for public comment.

Cost Impact

The FAA estimates that 55 airplanes of U.S. registry would be affected by this supplemental NPRM. Accomplishment of the proposed actions specified in the referenced BAE Systems (Operations) Limited modification service bulletins would require an approximate number of work hours as shown in the following table, at an average labor rate of $65 per work hour.

Work Hours and Costs
BAE Systems (Operations) Limited modification service bulletin | Parts costs | Work hours | Costs per airplane
SB.27-167-01614C.D.G | $2,937 | 12 | $3,717
SB.27-168-01614EH | 713 | 40 | 3,313
SB.27-169-01692A | 10,415 | 8 | 10,935
SB.27-170-01692E * | 826 | 20 | 2,126
SB.27-171-01692F ** | 826 | 12 | 1,606
SB.27-174-01692G | N.A. | 1 | 65
* (for Model BAE 146 series airplanes only)
** (for Model Avro 146-RJ series airplanes only)

Based on these figures, the total cost impact of this proposed AD on U.S. operators is estimated to be between $1,079,980 and $1,108,580, or between $19,636 and $20,156 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

BAE Systems (Operations) Limited (Formerly British Aerospace Regional Aircraft): Docket 2002-NM-172-AD.

Applicability: All Model BAe 146-100A, -200A, and -300A series airplanes and Model Avro 146-RJ70A, 146-RJ85A, and 146-RJ100A airplanes, certificated in any category.

Compliance: Required as indicated, unless accomplished previously.

To prevent pitch oscillation (vertical bouncing) of the fuselage due to excessive ice buildup on the elevator servo tab, and consequent reduced controllability of the airplane, accomplish the following:

(a) Within 24 months after the effective date of this AD, install linear fluid-filled dampers between each elevator surface and the airplane structure on both the left and right sides of the airplane and perform the related structural and system modifications, by doing all actions in accordance with the Accomplishment Instructions of the service bulletins specified in Table 1 of this AD; as applicable.

Table 1.—Service Information
BAE Systems (Operations) Limited modification service bulletin | Revision level | Date
SB.27-167-01614C.D.G | 2 | July 25, 2003.
SB.27-168-01614EH | 2 | July 25, 2003.
SB.27-169-01692A | 1 | July 11, 2002.
SB.27-170-01692E, including Appendix 1, Revision 1, dated August 27, 2001 * | 3 | May 16, 2003.
SB.27-171-01692F, including Appendix 1, dated March 20, 2001 ** | 1 | July 10, 2002.
SB.27-174-01692G | Original | December 10, 2001.
* (for Model BAE 146 series airplanes only)
** (for Model Avro 146-RJ series airplanes only)

Credit for Prior Revisions of Service Information

(b) Actions accomplished before the effective date of this AD in accordance with applicable service information listed in Table 2 of this AD are considered acceptable for compliance with the corresponding actions specified in paragraph (a) of this AD.

Table 2.—Prior Revisions of Service Information
BAE Systems (Operations) Limited modification service bulletin | Revision level | Date
SB.27-167-01614C.D.G | Original | January 2, 2001.
SB.27-167-01614C.D.G | 1 | July 11, 2002.
SB.27-168-01614EH | Original | January 22, 2001.
SB.27-168-01614EH | 1 | July 11, 2002.
SB.27-169-01692A | Original | December 10, 2001.
SB.27-170-01692E, including Appendix 1, dated August 27, 2001 * | Original | March 20, 2001.
SB.27-170-01692E, including Appendix 1, Revision 1, dated August 27, 2001 * | 1 | August 27, 2001.
SB.27-170-01692E, including Appendix 1, Revision 1, dated August 27, 2001 * | 2 | July 10, 2002.
SB.27-171-01692F, including Appendix 1, dated March 20, 2001 ** | Original | March 20, 2001.
* (for Model BAE 146 series airplanes only)
** (for Model Avro 146-RJ series airplanes only)

No Reporting Requirement

(c) Although all referenced service bulletins describe procedures for reporting accomplishment to the manufacturer, this AD does not require that action.

Alternative Methods of Compliance

(d)(1) In accordance with 14 CFR 39.19, the Manager, International Branch, ANM-116, FAA, Transport Airplane Directorate, is authorized to approve alternative methods of compliance for this AD.

(2) Before using any AMOC approved in accordance with 14 CFR 39.19 on any airplane to which the AMOC applies, notify the appropriate principal inspector in the FAA Flight Standards Certificate Holding District Office.

Note 1: The subject of this AD is addressed in British airworthiness directive 005-12-2001.

Issued in Renton, Washington, on November 30, 2005.
Ali Bahrami,
Manager, Transport Airplane Directorate, Aircraft Certification Service.

[FR Doc. 05-23776 Filed 12-7-05; 8:45 am]

BILLING CODE 4910-13-P